NATIONAL SCIENCE FOUNDATION

President's Committee on the National Medal of Science; Notice of Meeting

Notice is hereby given of a change in meeting of the President' Committee on the National Medal of Science. Originally the meeting was scheduled for October 31, 2012. A notice was published in the Federal Register on Wednesday, October 10, 2012 on page 61644. However, due to Hurricane Sandy it was necessary to cancel. In accordance with the Federal Advisory Committee Act (Pub. L. 92-463, as amended), the National Science Foundation announces the rescheduled meeting:

Name: President's Committee on the National Medal of Science (1182).

Date and Time: Monday, December 10, 2012, 8:30 a.m.-2:00 p.m.

Place: National Science Foundation, 4201 Wilson Boulevard, Arlington, VA, 22230. Type of Meeting: Closed.

Contact Person: Ms. Mayra Montrose, Program Manager, Room 1282, National Science Foundation, 4201 Wilson Blvd., Arlington, VA 22230. Telephone: 703-292-4757.

Purpose of Meeting: To provide advice and recommendations to the President in the selection of the 2012 National Medal of Science recipients.

Agenda: To review and evaluate nominations as part of the selection process for awards.

Reason for Closing: The nominations being reviewed include information of a personal nature where disclosure would constitute unwarranted invasions of personal privacy. These matters are exempt under 5 U.S.C. 552b(c)(6) of the Government in the Sunshine Act.

Dated: November 20, 2012.
Susanne Bolton,
Committee Management Officer.

[FR Doc. 2012-28636 Filed 11-23-12; 8:45 am]

BILLING CODE 7555-01-P